DEPARTMENT OF COMMERCE

Bureau of Industry and Security

15 CFR Part 774

The Commerce Control List

CFR Correction

In Title 15 of the Code of Federal Regulations, Parts 300 to 799, revised as of January 1, 2012, in supplement no. 1 to part 774, in Category 6, make the following corrections:

1. In 6A001:

A. On page 807, in the note following paragraph 6A001.a.1, add “equipment as follows” after “6A001.a.1 does not control”.

B. On page 807, in paragraph a.1.a.1.a, remove “20” and add “20°” in its place.

C. On page 810, designating the notes following 6A001.b.2 as “Note 1” and “Note 2”.

D. On page 810, removing the note to 6A001.a.2 following the N.B. at the end of the section.

2. In 6A992, on page 826, in the table for “License Requirements”, remove the entry for RS and place it below the table as an indented paragraph.

3. In 6B108, on page 830, remove “Unit: r” and add “Unit: Number” in its place.

4. In 6C005, on page 831, add “License Requirements” above “Reason for Control”.

5. In 6D001, on page 831, remove “CIV: * * *” and add “CIV: N/A” in its place.

6. In 6D003:

A. On page 832, in “Reason for Control”, after “NS”, add “RS,”.

B. On page 833, remove paragraphs h.1.a and h.1.b.

7. In 6E001, on page 834, add “License Requirements” above “Reason for Control”.

8. In 6E002, on page 835, add “License Requirements” above “Reason for Control”.

[FR Doc. 2012-18967 Filed 8-1-12; 8:45 am]

BILLING CODE 1505-01-D